TENNESSEE VALLEY AUTHORITY

Sunshine Act Meeting Notice

Agency Holding the Meeting: Tennessee Valley Authority.

Federal Register Citation of Previous Announcement: 68 FR 51062 (August 25, 2003).

Previously Announced Time and Date of Meeting 9 a.m. (EDT), Wednesday, August 27, 2003.

Previously Announced Place of Meeting: TVA Knoxville West Tower Auditorium, 400 West Summit Hill Drive, Knoxville, Tennessee.

Changes in the Meeting: The TVA Board of Directors has approved the addition of the following item to the previously announced agenda:

A—Budget and Financing

A3. Approval of Fiscal Year 2004 TVA Budget.

FOR FURTHER INFORMATION CONTACT: Please call TVA News Bureau at (865) 632-6000, Knoxville, Tennessee. Information is also available through TVA's Washington Office at (202) 898-2999.

Maureen H. Dunn,
General Counsel and Secretary.

[FR Doc. 03-22249 Filed 8-27-03; 8:45 am]

BILLING CODE 8120-08-M